CORPORATION FOR NATIONAL AND COMMUNITY SERVICE

Sunshine Act Meetings

The Board of Directors of the Corporation for National and Community Service (operating as AmeriCorps) gives notice of the following meeting:

TIME AND DATE: Wednesday, July 19, 2023, 2 p.m.-3:30 p.m. (ET).

PLACE: 121 Avenue of the Americas, 6th Floor, New York, NY 10013. For health and safety reasons, this will be a virtual meeting for those who have been invited to give remarks and for the public.

• To register for the meeting, please use this link: https://americorps.zoomgov.com/webinar/register/WN_wrawqlvfQeKySPS3doqFXg.

• To participate by phone, call toll free: (833) 568-8864.

STATUS: Open to the public.

MATTERS TO BE CONSIDERED:

I. Opening Remarks by the Chair

II. CEO Report

III. Oversight, Governance, and Audit Committee Report

IV. Spotlight on AmeriCorps Programs

V. Public Comment

VI. Chair's Closing Remarks and Adjournment

Members of the public who would like to comment on the business of the Board may do so in writing or virtually. Submit written comments to board@cns.gov with the subject line: “Comments for July 19, 2023, AmeriCorps Board Meeting” no later than 5 p.m. (ET) Friday, July 14, 2023. Individuals who would like to comment during the meeting will be given instructions for signing up when they join the meeting. Comments are requested to be limited to two minutes.

AmeriCorps provides reasonable accommodation to individuals with disabilities, where needed.

CONTACT PERSON FOR MORE INFORMATION: Heather Leinenbach, by telephone: (202) 489-5266 or by email: HLeinenbach@cns.gov.

Fernando Laguarda,
General Counsel.

[FR Doc. 2023-13549 Filed 6-22-23; 11:15 am]

BILLING CODE 6050-28-P